DEPARTMENT OF THE INTERIOR

Fish and Wildlife Service

Battle of Midway National Memorial Advisory Committee; Meeting Notice

AGENCY: Fish and Wildlife Service, Interior.

ACTION: Notice of meeting.

SUMMARY: The Battle of Midway National Memorial Advisory Committee will hold its second meeting by teleconference on Thursday, May 30, 2002, from 2 p.m. to 4 p.m. Eastern Daylight Savings Time. During this teleconference, the committee will review plans for the 60th anniversary celebration of the Battle of Midway, the status of historic structures on Midway Atoll National Wildlife Refuge, and the standards for any new memorials to be placed on the atoll.

DATES: May 30, 2003, 2 p.m. to 4 p.m.

ADDRESSES: U.S. Fish and Wildlife Service, 4401 N. Fairfax Drive, Arlington, Virginia, room 205 or by teleconference.

FOR FURTHER INFORMATION CONTACT: Any member of the public wishing further information concerning the meeting or who wishes to submit oral or written comments should contact Barbara Maxfield, External Affairs Chief for the Fish and Wildlife Service's Pacific Islands Office, Box 50088, Honolulu, HI 96805; telephone (808) 541-2749; fax (808) 541-2756 no later than May 24, 2002. You may obtain copies of the draft meeting agenda from the same source.

SUPPLEMENTARY INFORMATION: As directed by Congress, the Secretary of the Interior established the Battle of Midway National Memorial Advisory Committee to facilitate development of a strategy for the dedication and management of this National Memorial. Members of the public are welcome to participate in any of its meetings.

Members of the public in the Washington, DC, area may attend the meeting in person in the U.S. Fish and Wildlife Service's Washington Office at 4401 N. Fairfax Drive, Arlington, Virginia, in room 205. Members of the public may also participate by teleconference, however, teleconference lines are limited. Please call Barbara Maxfield (808) 541-2749 if you are interested in participating in the call and to obtain the dial-in number. Seating in room 205 of the Fish and Wildlife Service's Arlington Square office is limited and is available on a first come, first served basis.

We will distribute written comments submitted to the Fish and Wildlife Service at the Honolulu address above to committee members prior to the meeting if we receive them in sufficient time to allow distribution. We will provide an opportunity for oral comments from the public during this teleconference meeting as well.

Dated: April 26, 2002.
Elizabeth N. Flint,
Acting Project Leader, Hawaiian and Pacific Islands Wildlife Refuge Complex.

[FR Doc. 02-11627 Filed 5-8-02; 8:45 am]

BILLING CODE 4310-55-M